DEPARTMENT OF HEALTH AND HUMAN SERVICES

Centers for Disease Control and Prevention

National Health and Nutrition Examination Survey (NHANES) Stored Biologic Specimens: Guidelines for Proposals To Use Samples and Proposed Cost Schedule; Correction

A notice and request for comments titled “National Health and Nutrition Examination Survey (NHANES) Stored Biologic Specimens: Guidelines for Proposals To Use Samples and Proposed Cost Schedule” was published in the Federal Register on May 24, 2004 (69 FR 29551). This notice is corrected as follows:

On page 29554, third column: the heading “Proposed Cost Schedule for Providing NHANES III DNA Specimen Bank” should now read: “Proposed Cost Schedule for Providing NHANES Stored Biologic Specimens.”

Dated: July 5, 2004.
James D. Seligman,
Associate Director for Program Services, Centers for Disease Control and Prevention.

[FR Doc. 04-15911 Filed 7-13-04; 8:45 am]

BILLING CODE 4163-18-P